DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending March 31, 2019. For purposes of this listing, long-term residents, as defined in section 877(e)(2), are treated as if they were citizens of the United States who lost citizenship.

Last name | First name | Middle name/initials
ABDULSALAM | ABDULAZIZ | MOHAMMAD
ADAM | OMER
ADAMS | BONNIE | LEE
ADAMS | JAMES | RUSSELL
ADAMS | SHARON | LORRAINE
AGARI | KAZUMI
AGUR | ELLA | ARYIELA
AHERN | IAN | BRUCE
AHLI | MANAL | ALI MOHAMMAD DOAYA
AHN | GINA
AIRTH | KIMBERLY | DOREEN
AJMONE-MARSAN | COSIMO | MARCO
AL HASHEM | ABDULMOHSEN | SHUKRI
ALCALA | SHERRY | EVE
ALDAEAJ | ABDULLAH | HAMAD
AL-JASER | SHAKIR | AHMAK
ALKEMA | SJOERD | CHRISTOPH MARTY
ALLAN | ROSS | BRUCE
ALLEN | ROBIN | RENEE
ALMUHANNA | AHMAD | NABEEL
ALOSHBAN | GHASSAN | ABDUL-AZIZ
AL-SALEH | HASHIM | ADNAN ABDULLAH
ALTENBURG | LORENZ | BERNARDEAU
ALURWAR | ANJALI | ANADRAO
AMBERG | CARLETON | STARK
AMBROSIONI | PIERLUCA | MARIA
ANDERSON | CHIARA | LENA
ANDERSON | DAVID | BRIAN
ANDERSON | JOHN | MICHAEL
ANDERSON | MEGAN | P.
ANDERSON-KNIGHT | HANNAH | E.
ANGELL | BARBARA | JOY
ANGLETON | ROBERT | NICHOLAS
ANLIKER | VERENA | GERTRUDE
ANSEL | TRUDY | MARGIE
ANSLOW | JUNE | ARLENE
AOKI | MASAHIKO
ARIVAZHAGAN | KUGAN
ARKIN | FATIMA | MALCAMPO
ASHTON | MICHELE | ANN HESKETH
AVIAD | JACOB
AWWAD | SARA | ABDELKARIM
BAIER | KRYSTAL | ROSE
BAIRD | DAYLE | ROBIN
BAKER | JOHN | LUTHER
BALAZ | BRIGITTA | ELFRIEDE
BALLANTINE | TANIA | NICOLE
BALLESTER, JR | RAUL | ELISEO
BARIL | ANNE
BARLIEB | YASMINE | NATHALIE F.
BARNES | SARA | KELLY
BARROS | RODRIGO | JUAN
BARTHOLOMEW | GALINA
BARTOLOME PRIETO | MARIA | VICTORIA
BASU | KAJARI
BAUMGARTNER | ELISABETH | NATHALIE
BAX-GARMAN | TRICIA | ANN
BAYLISS | CYNTHIA | S.M.
BECKER | BRADLEY | WILLIAMSON
BECK-OLIVER | KATHRYN | ANNE
BEGIN | GENEVIEVE | FRANCOISE
BELAIEFF | WILSON | ANDREW
BELISLE | KEVIN | VICTOR
BENOIT | BEATRICE | ELAINE
BERG | CELINE | ANNIE
BERG | JASMINE | SOFIA
BERNARD | MARIE | THERESA
BERNARDI | LEANDRO
BERNTHALER | NICKLAS | FLOYD
BERTHEAS | ALEXANDRE | EMMANUEL
BEUTLER | THOMAS | CHRISTIAN
BEZERRA | VICTORIA | DE MORAES
BHASIN | RAJESH
BIANCHI | WALTER
BIGOURET | VANESSA | MILLER
BLACKBURN | AVERIL | BRONWEN
BLACKBURN | GEORGE
BLANC | CYRIL | ANDRE
BLANCO-HOUSTON | JOHN | PATRICK
BOANO | JULIE | MARTINE
BOHNERT | CHRISTINE | BARBARA
BOHNERT | UTE | IRENE
BOLLIGER | KATHARINA
BOLTON | ALAN | JAMES
BORAGNO | MARY | GLENN
BORAGNO | WILLIAM | REMO
BOREL | CORINNE | CHRISTIANE
BORES | MELANIE | CHARLOTTE
BOTTING | DAVID | JOHN
BOUSCHER | KEITH | BRIAN
BOUTIN | BARBARA
BOWERING | NORBERT | R.
BRAGAGNOLO | BRITNEY | MARIE
BRAGG | NATHAN | RIDGLEY
BRAIN | IMOGEN | EMMA
BRAMLEY | DONNA | PATRICIA
BRANDES | SIMEON | ETHAN
BREMER | ELENA | MARIE
BRENT | GAIL | FERRINGTON
BREVAL | PATRICK | CHARLES
BRICKSON | REBECCA | ANN
BRIDGMAN | DAVID | MITCHELL
BRIND'AMOUR RIFFOU | CAMELIA | MACKENZIE
BROCHU | DIANE | GISELE
BRODERICK | SHANNON | LYNN
BROOKS | DAVID | DEXTER
BROWN | GREGORY | SCOTT
BRUGGMANN | RAPHAEL | LAWRENCE
BRUSH | GARY | EUGENE
BUCHANAN | MICHAEL | S.
BUCHWALD | KURT | ALEXANDER
BUNTON | ANTHONY | DAVID
BUNTON | MICHAEL | PETER
BURCKHARDT | STEFAN | JURG
BURGI | CHRISTIAN
BURKHARD | JENNIFER | BEATRIX
BURKOM | BERNARD | LEE
BURMANN | KATJA | MARIKA
BURNETT | DAVID | GARY
BURTON | THOMAS | ELLIOT
BUTCHER | HARVEY | RAYMOND
BUTLER | LORRAINE | SUE
BUURMAN | MARIA | WILHELMINA
BYRNE | FRANCIS | MICHAEL
CAHILL | JENNIFER | MARGARET
CALLENDER | LESLIE | LAUREN
CAMPBELL | SHAYNA | RAE
CAPALDI | JOHN | WILLIAM
CAPE | HUNTER | ROBERT
CAPRIOTTI | JOSEPH | A.
CARLAN-RIDDELL | SHANNA | KIM
CARTER | SANDRA | FRIEDERIKE
CASTELLI | CAROLINE | ANNE
CAUSER | ROBERT | NORMAN
CHAMMAS | EDWARD | EMILE
CHAN | JOANNA | MAN JUNG
CHAN | PAUL | WAI BUN
CHAN | STEPHANIE | WING KWAN
CHAPMAN | DAVID | EUGENE
CHARBONNEAU III | HERBERT | RAYMOND
CHARNOCK | ANGELA | HARRIET
CHARRON | DIANE | LORI
CHASE | MONICA
CHAURASIA | HARI | PRASAD
CHAWORTH-MUSTERS | TESSA | MARY CATHERINE
CHEN | ANDREW | DEAN
CHEN | DEREK
CHEN | LIAN | YUI
CHENG | PI | YING CHARLOTTE
CHEUNG | DENNIS | CHI KUN
CHEW | ROSEMARY
CHIRATHIVAT | BANGONCHOM
CHO | ELAINE | KYUNGJA
CHOI | CLIFF
CHOI | EUGENE
CHONG | KAREN | KAM YEE
CHOQUARD | NOELLE | CATHERINE
CHORZEMPA | DANIEL | WALTER
CHOW | GARY | EDWARD
CHUAH | EDWIN | TZE YONG
CHUN | ELYSE
CHUNG | HAROLD | CHOI
CHUNG | JULIANA | WENDY
CICERCHIA | EDITH | E.I.
CICERCHIA | MICHAEL | ANTHONY
CLARK | REBECCA | ANN
CLARK | SHEILA | E.
CLEGG | LAUREN | ELIZABETH
CLEMENTS | BARBARA | V.
COBBAN | PAUL | ARTHUR
CODERRE | KIRBY | DANIEL
CODERRE | PATRICIA | KAY
COHEN | BAT-SHEVA
COLEMAN | LORNA | MAE
COLLIER | LESLIE | HELEN
COLONNELLO | DANIELE | CLAUDIO
CONLIN | ALISON | ANN
CONNELLY | BUNGORN
CONNER | BRYAN | KEITH
CONNOLLY | JOHN | FRANCIS
CONRADS | HANS-GEORG | PETER
CONSIDINE | DAVID | M.
COOKE | GRAHAM | ROLAND JAMESON
COPTI | GEORGES | GABRIEL
CORTELLI | GEORGIANA
COUNIHAN | TIMOTHY | JOHN
COWAN | EMILY | ROSE
COX | MARTIN | ALLEN
CRAIG | ANDREW | GORDON
CRANSTON | ROSS | DOUGLAS
CRAWFORD | THOMAS | KEITH
CRESCI | BETTINA | ODETTE
CROMBEEN | BRANDON | JAMES
CRONKHITE | MELISSA
CROOK | NIKITA | ALICE
CROWLEY | ERIK | WIKSTROM
CROWTHER | DAVID | RICHARD G.
CUNNINGHAM | MARY | CAROL
CUPERUS | ANN | REESER
CYPHER | RAYMOND | AARON
DAHN | JEFFERY | RAYMOND
DANIEL | KIMBERLY | BETH
DANIEL | MARK | JEFFREY
DANIEL | WENDY | JEAN
D'ARAGONA | ROBERTO | BILOTTI RUGGI
DE BOISSESON | VERONIQUE
DE CORDIER | JOELLE | KIRIT
DE COULON | ANDRE | ALAIN GUSTAVE
DE GRAZIA | MARCO
DE JESUS | FRANCESCA | KASANDRA TIU-LAUREL
DE JONGE | LODEWIJK | DANIEL
DE LEEUW | MATTHEW | LEMUEL
DE MOL VAN OTTERLOO | SCIPIO | ALEXANDER
DE SANTIS | MATTHEW | XAVIER
DE VILLA PUCKETT | AUDRA | MARIE
DECLUDT | AMAURY | ROBERT EMMANUEL
DEHAAS | JOHANNES | JACOBUS
DEL GIUDICE VILLENA | SALVATORE | SIMON
DEL RICCIO | COSTANTINO | JOHN
DELARUE | CHRISTINE
DELORME | CHLOE | MARIE
DEMENS | GORDON | PATRICK
DEMETRAKOPOULOS | DEMETRIOS | YORGO
DESAI | KEVIN
DEWERPE | SARAH | KHANOUM SAOUD BECK SALAAM
DI LORENZO | MARGO
DICK | PHILIPPE | LUIZ
DICKIE | SEAN | JOHN
DIETRICH BRAGG | ANNE | CATHERINE
DIMMOCK | DANIEL | KENNETH
DIMMOCK | NATASHA | LEIGH
DITLOVE | MARK | DAVID
DO | PETER | DUY DAT
DOEKSEN | THOMAS | VOLKERT FRISO
DOLLOIS | ANNE | MARIE MADELEINE
DONNELLY | ANTHONY | FRANCIS
DORE | KATHRYN | ANN
DOUGLAS | DANNY | V.
DOVELL | ANDREW | CLEMENT
DOYLE | SUSAN | KAYE
DREW | ELIZABETH | ANN
DUGGAN | CAROL | ANN
DUIJN | WOUTER | CHRISTIAN
DUNCAN | JENNIFER | APRIL
DUNN | MATTHEW | GORDON
DUNNE | MARCELA | ISABEL
DUNNETT | BRADLEY | RANDAL
DURAN | VICTOR | VLADIMIRO
DUTHOIT | JOHN | PETER
ECKLER | SIBYLLE | MARIA
EDAMURA | CAREN | MARGARET
EING | PATRICIA | SOPHIA
ELFORD | KIMBERLY | JOY-ANN
ELISIO | LUCIA
ELLIOT | MARY | CLARE
ELSTE | DILLON | JEREMY
ENGELHARDT | LINDA | ANNE
ENJERGHOLI | SIROON
ERDMANN-JONSSON | LARKEN | NOAH
ERICKSON | TIMOTHY | NEIL
ETTER | AUDREY | RENEE GARROW
ETZKORN | WILLIAM | GEORGE
EVANS | ALICE
EVANS | MICHELE | MARIE
EZZ-ELARAB | OMAR | MOHAMED
FABBRI | MARTA
FANDINO | ANSELMO
FARNSWORTH | RICHARD | T.D.
FASSLER | ELISABETH | CORNELIA
FAURO-BOSSA | MARILISA
FEE | ERIC | PHILLIPS
FELTHAM | TAMMARA | SHERISE
FERRARO | CHRISTOPHER | PETER
FIALA | EDWARD | CHESTER
FILA | JOANNA | CAROLINE
FIORE | ANTHONY | ALBERT
FISK | MICHELE | MAUREEN
FISZBAJN | AVITAL | RANA
FITZMARTYN | CHERYL | JOANNE
FLEISCHMANN | JULIE | THERESE
FLETCHER | ROBERT | GORDON
FORCIER | STEPHANE | CLAUDE
FORD | JILL | ELIZABETH
FORD | KAREN | ANN
FORMANOY | ELIZABETH | C.E.
FORSYTHE | ALASDAIR | DAVID
FORTE | MARCUS | ALEXANDER
FRACCHIA | HELENA
FRANCONI | GIOVANNA
FRANK | LUCY | ELIZABETH
FRASER-HARRIS | AYAME | HARMONY
FRECH | KAREN | JEAN
FREDERICK | MARY | JO
FREI-HOFMANNER | KAREN | ANNE
FRIEDLICH | JANICE | CAROL
FRIEDMAN | TAMAR | KIM
FRIEDSON | WILLIAM | ANTHONY
FRITSCHI | TOBIAS | DAVID
FRITZ | PATRICK | ARTHUR
FROEHLICH | STEVEN | WALTER
FURMAN | DAVID | NOE
GADIENT-HOFMANN | ARLENE | DENISE
GAGNON | CHANTAL | ANNE
GAGNON | LYNE | CHRISTINE
GAGNON | PATRICK | MICHAEL
GAILLARD | RICHARD | JOHN
GAM | GABRIEL | SHIH YEE
GAMARD | SYLVAIN | LAURENT
GAMSGAARD | MICHAEL | PATRICK DONOVAN
GAMSGAARD | PETER | JOSEPH DONOVAN
GARCIA-VEGA | LUIS | DANIEL
GEHRING | THOMAS | CLAUDE
GEORGE | DAVID | HILLES
GEORGE | KATHRYN | ANN
GEORGE | MATTHEW | DAVID
GERATZ | THERESA | JEAN
GERMAN | GREGORY | JOHN
GIBBS | GARY | CRISTOFER
GIBSON | MARIE | LORRAINE GABRIELLE
GIDDENS | JONATHAN | LEE
GIFFORD | JAMIE | ANDREW
GIGNAC | JEROME | AARON
GILDER | FIRUZEH | ARDESHIR
GILLIS | MARY | BERNADETTE
GIOVANNETTI | JOANNE | MARIE
GLAZIER | MICHAEL | ROSS
GLEESON | SEAMAS | PROINSIAS
GLINZ | SVEN | SEBASTIAN
GMOEHLING | THOMAS | WERNER
GO | FRANKLIN | LEELIN
GO JR | FREDDIE | LEELIN
GOETZINGER | CHESTER | WARREN
GOFF | BERNICE | THERESA
GOGOLA | COLLEEN | CAROLINE
GOLDSTEIN | MELVIN | EARL
GOMEZ | MARIA | ALEJANDRA
GONDER | JOHN | THOMAS BURDICK
GOOD | BONNIE | B.
GOOD | JERRY | PAUL
GOOD | MARION | E.
GOOD GINGRICH | LUANN | MARIE
GORMAN | CATHERINE | EVA E.
GORYN | MINNA
GOUNTCHEV | TOMISLAV | IIKOV
GRAF | JOHANNES | KARL
GRAMAGLIA | ANTOINE | DAVID
GRATWOHL EGG | STEPHANIE | ELISABETH
GRECO-VOGELBACHER | CHANEL | DESIREE
GREEN | GEORGE | DAVID ARMSTRONG
GREEN | MARY | ANNE
GREENE | JUSTIS
GREENSPOON | FERN | RUTH
GRENIER | JOSEPH | ROCH
GRIFFITHS | LAWRENCE | RAYMOND DAVID
GROSSMANN | SVENJA | KATHARINA SOPHIE
GROVE | CYNTHIA | LOUISE
GROVIT | FELIX | TIMUR ISMAIL
GRUBAN | PATRICK | THOMAS
GRUNER-HEGGE | NICOLAI
GUDAITIS | ELIZABETH | ANNE
GUDAITIS | VITALIUS | VYTAUTAS
GUDDAT-MORGEN | STEPHANIE | CHRISTINE
GUILBERT | LARRY | JOE
GUILBERT | SANDRA | MAC NEY
GUNTHER | PHYLLIS | SONDRA
GURNEY | ALICIA | FRANCES
GUTIERREZ | SERGIO
GWILT | RICHARD | LLOYD
GWIN | MORRIS | KENT
HABECKER | DIANA | BERLY STEINSTO
HADLEY | JACOB | SINDING
HALPERIN | ROSS | MARK
HAMMOND | KIMBERLY | GAY
HAN | JOHN | JAI-YUN
HARMAN | AIMEE | NICOLE
HARMON | JOHN | BARRY
HARTMAN | DANIEL | KARSTEN
HARTNAGEL | JULIA | LYNN
HARTONAS-GARMHAUSEN | VASILIKI
HATHAWAY | CAROL | ANN
HAWKSWORTH | LTA | JEAN
HAYDICKY | JOHN | PHILLIP
HAYDICKY | PHILLIP | JOSEPH
HAYES | MEGAN | EMILY
HAYHOE | RHONDA | LYNN
HAYTER | MARTHA | DEE
HAYWARD | MARY | A.
HECHTENTHAL | SARA | DAWN
HEFTI BLUM | ELIZABETH
HEINEN | JOCELIN | DENIS
HEINZ | AGNES
HELLINGA | FRISO
HEMINGSON | DONNA | JUNE
HENZ | LAURA | AUDREY
HERBERT | BENJAMIN | CADOC
HERBOLD | PHILLIP | ARNOLD
HERRON | BRIAN | DAVID
HETZER | STEVEN | EDWARD
HEW | SHIRLEY
HILL | MARLENE
HILTI-BAYER | FLORIN | NICO
HILTON | ALEXANDER | PHILIP
HILTON | MICHAEL | JAMES
HILTON | SAMANTHA | DAVIES
HILTZ | SARAH | CHRISTINE
HIRST | CASSIUS | ATTICUS BAT
HO | CATHY | CHIN HUA
HO | MICHELLE | MUN YEE
HO | SOO | TENG
HOCHSTRASSER | SUSAN | MARGARET
HODEL | CHRISTOPHER
HOFF-HACKER | ELLEN | LOUISE
HOFFMAN | GABRIELLE | MIKO
HOFSTAETTER | THOMAS
HOGAN | CORMAC | NOEL
HOLME | MITCHELL | BRUCE
HOMMEL | JOEL | PATRICK
HORGAN | MARY | FRANCES
HORLACHER | ZOE | HUFUMIAO
HOSHINO | SAKI | KATHIE
HOSHINO | STEVEN
HOUSE | LORRAINE | GAIL
HOUSEMAN | DAVID | KEVIN
HOWARD | RONDA | LYN
HUANG | JEFF | LITCHEN
HUANG | ZHI | HAO
HUBER | HEIDI | LISA
HUENI | NORA | JOSETTE
HUGHES | ANDREA | KEDDIE
HUMBEL | RUDOLF | NIKLAUS
HWANG | HYUNMEE
IJSSELHOP-BLAAUW | CLAIRE | B.
INDERBITZIN | NIKLAUS | JOSHUA
INOUE | YOSHIKO
IRELAND | ALLYSON | J.
IRVINE | BRENDON | ROBERT
IRVINE | EVA
IRWIN | SUSAN | MAREE
ISHIKAWA | KAZUKI | KEVIN
ITEN-CANNIZZO | MARILYN | ANNA
ITHARAT | JILLIAN | L.
IYENGAR | PRAKASH | KRISHNASWAMY
JABRE | JULIA
JAEGER | JOLENE | MICHELLE
JAIN | ADINA | ALYCE KUMARI
JAMES | LESLIE | CAMERON
JANES | CHRISTINE | MARINA
JANSEN | MICHAEL | ALAN
JARZEBOWSKI | JERZY | MICHAL
JOHNSON | DARREN | WADE
JOHNSON | DOUGLAS | HUGH
JOHNSON | NADEAN | ANN
JOHNSON | ROBERT | LEON
JOHNSON-DEAN | CHRISTINA | BETTS
JOLY | KRISTINA | ISABEL MJELLEM
JONCKERS | MIRJAM
JONES | YANCY | DAMON
JORGENSEN | CATHERINE | A.
JOST | DAVID | ALFRED JOHN
JUDELSON | AVILA
JULIEN | CHERYL | LANE COOPER
KAISER | LINDA | DIANE
KAM | JEFFREY | MAN-KIN
KAMIYA | RYOHEI | CHRIS
KANE | JONATHAN | DAVID
KARLSEN | HAAKON
KATZ | ANNA | CAROLYN
KAUR | MANISHA
KAY | MATTHEW | RYAN
KEEGAN | KAREN | TERESE
KELLOGG | SARAH | JACKSON
KELLY | WENDY | DAWN
KEMPE | PATRICIA | HOWE
KENNERLEY | STEVEN | WAYNE
KENNETT | SHAUN | ALEXANDER
KHAN | SADAF
KHOURI | JOHNNY | NABIH
KILLEWALD | SUSAN | KIMBERLY
KILPELA | CARLA | IRENE
KIM | HYEWON
KIM | IN SOOK
KIM | IRENE | STEPHANIE
KIM | JAY | SOO
KIM | PHILIP | YOUNG
KIM | PYONG | CHIN
KIM | SONMI
KIM | TAE | HOON
KINGFISHER | CATHERINE | PELISSIER
KIRKNESS | LUCY | EMMA
KLASNER | AARON | MICHAEL
KLEINENBERG | WILLEM | DOUWE
KLINE | GREGORY | ALAN
KNAPP | DONALD | MORGAN
KNAPPE | CAROLYN | HILDEGARD ANN
KNAUER | BRUCE | DOUGLAS
KNAUER | JEFFREY | DONALD
KNOTT | CHERYL | LYNN
KNOTT, JR | JASON | EDWARD
KNUTTILA | MARIA | INEZ
KO | KWANG | HYO
KOH | JARED | SIANG HAO
KOLSTER | MARITA | CLAIRE EMELY
KOMOROWSKI | ROMAN | J.
KONG | CAROLINE | SUNG-AH
KOO | VIVIAN | HUI LIN
KOTZBAUER | MICHAEL | HARALD
KOZAR, JR | DANIEL | PAUL
KREDA | JANET | LYNNE
KREMB | AYLA
KRETLOW | JANIS | ELAIN
KROG | BRONWYN | MARY
KRONE | JOACHIM | DIETER
KRONENTHAL | LINDA | HOPE
KRUEGER | DONALD | RAY
KRUEGER | ELAINE | SCHUMAN
KRUEGER | LISA | GOMI
KUBO | TAKEHITO
KUNIMOTO | BRENDEN | COREY MASAYUKI
KUNIMOTO | DANIKA | CAROLINE RYOKO
KURILECZ | KATHLEEN | E.
KWAN | HENRY | JOSEPH
KWEON | HYUCK-JUN
LAFUGE | MARINE
LAISSUE | WENDY | MICHELE
LALLI | CAROL | MARIE
LAM | CALVIN | KIN-HENG
LAPHAM CASHMAN | ROSEMARY
LARKIN | SEAN | PATRICK
LAU | GAM | YONG NG
LAU | TONY | TAK YIN
LAUKKANEN | TAHVO | DYLAN
LAURENT | ALEXIS | EMMANUEL
LAUXMANN | MARTIN | ALEXANDER
LAW | ANITA | JILL
LE COCQ | MARIANA | LUCIA
LE ROUX | REMI
LEAMING | KENNETH
LEBOW | PHILLIP | DAVID
LEE | CHEN | HUI
LEE | CRYSTAL | LI-YONG
LEE | DANIEL | SEUNG-KYU
LEE | GLORIA | RUNG BE
LEE | HUN
LEE | JONG | WOOK
LEE | KA LAM | GARY
LEE | PRISCILLA | YAN WEI
LEE | ROBERT | JOHN
LEE | SHERLYN | SHER LIN
LEE | WANDA | ANN
LELONG | DOMINIQUE | CLAUDE
LEONARD | ISAAC | EDWARD
LEONARD | SARAH | M.
LEVESQUE | PAUL | L.
LEVI | MICHAEL | ROBERT
LEVINSON | JOSEPH | JAY
LEVY | SUSAN | JESSICA
LEWICKE | JUSTIN | CRYAN
LIM | MICHAEL | WARREN
LIN | CHAO-MEI
LIN | RICHARD | HSIOU
LINDE | TEAL
LINK | LISA | LAYNE
LIPTON | MITCHELL | GOODMAN
LIT | HIU | YEUNG
LIYEUNG | LEO | L.
LOEHRL | VALENTINA
LOESCH | LARS | JUERGEN
LOETTGEN | LUKAS
LOEWER | SEBASTIAN | MATTHIAS
LOGOZ | ANNETTE | CECILE
LOH | CHUNG | KIT
LOPEZ | ASHLEY | STAMLEY
LORZ | AXEL | CURT HELMUT
LU | JEAN | MARTINA
LU | MARK
LUBELL | JANICE | EILEEN
LUBELL | SUSAN | ELIZABETH
LUI | HO | CHUNG
LYE | CORA | KATHRYN
MACDONALD | HUNTER | BANFORD BULMER
MACKENZIE | IAN | BROUARDE
MACMARTIN | SARA
MACRANDER | CATHRYN | M.
MAIKLEM | ANDREA | KIRSTEN
MAJID | ARSHAD
MAJID | SIDRAH
MAJITHIA | NISHANT | RAJENDRA
MAK | CLEMENT | KA YIU
MANCILLA | BLANCA
MANDIC | ALBERT | JOHN
MANLEY | BRIAN | PATRICK
MANNING | KIM
MANOSA | MARIA | ALEXANDRA
MANSELL | JOHN | EDWARD
MARCUS | LESLIE | GLENN
MARET | NIICOLAS | LEVON
MARGOLIS | JESSIE | LAUREN
MARSHALL | ETHEL | MARIE
MARTENS | GRACE | ANN
MARTIN | JANE | THERESA
MARTIN-BEILNER | MICHELINE | CAROLA
MASLO | KARL | GEORG
MASON | GREGORY | PAUL
MASS | ANTHONY
MATHISEN | LAURA | JANE
MAVIN | KEITH | GORDON
MAYFIELD | KARLA | SUE
MAZET | PHILIPPE | JACQUES OLIVIER
MAZUR | JENNIFER | ELLEN
MC CLUNG | CORY | ROBERT
MC GEHEE | MARY | DARCY
MCAULEY | JOAN | FREEMAN
MCBRIDE | DONALD | EUGENE
MCCOLLUM | DIANA | MARY
MCDOWELL | DOUGLAS
MCLELLAN | DEBORA | ANN
MCPHERSON | KIRK | LEE
MCRAE | JILL | ELIZABETH
MCSORLEY | ELEANOR | ADELE
MEERTENS | NAOMI | MARCIA KIKI
MEHRING | CARSTEN | RALF
MEIER | DENISE | K.
MEINARDI | HERMELYN
MELHUS | PAMELA | CHRIS
MELLO | ANNE | E.
MENADA | CLAUDIA | P.
MERRITT | THOMAS | CHRISTOPHER
MEYER-HEINE | ANNE
MICHALOWSKI | ALEXANDER | JAN-ZYGMUNT
MILLER | CARL | JASON
MILLER | SCOTT | GORDON
MILLS | MICHAEL | E. WHITCRAFT
MILONA | LAMBROS | JAMES
MILTON | ALEXANDRA | CECILE
MINNINGS | ATLANTIS | WINDSOR
MITCHELL | CHRISTIAN | SEGUR AKINER
MITSUMOTO | ERI | KAREN
MOHRHAUER | FRANK | OLAF
MOLINA | ANTONIO | PASCUA
MOMEN | ABDUL | A.K.
MONDAL | RADHIKA
MONKS | KELLY | DAVID
MOORE | RODERICK | JAMES
MORALES GIRBAU | OMAR | R.
MORAWITZ | RAYMOND | LOUIS
MORGAN | MOLLY | FELICE
MORGAN | RONNIE | ALBERT
MORGAN JONKER | CECILY | CATHARINE
MORGEN | KATRIN | ELISABETH
MOROZOVA | ELINA
MORRIS | JAMES | HYWEL
MOXON | FANK | HOYT
MUHLBAUER | PEGGY | ADRIANE
MUKUNTHARAO | MONEESHAU
MULDER | PETER | WILLIAM
MUPPANA | PRATIK | VASPRAD
MURCH | SEAN | MACLENNAN
MURPHY | TIMOTHY | LEIGH
MURRAY | CHLOE | CAMILLE MARIE
MYERS | JASON | NATHANIEL
NAGLE | SYDNEY | ROBIN
NAI | HAO RAN | ASHLEY
NAIRNE | JAMES | ANDREW JOHNSTONE
NAVARRE | PIERRE
NEGLIA | GERMAN | ARTURO
NEGRYCH | SHERRYL | DIANE
NELSON | PAUL | MICHAEL
NESBITT | MARK | CHRISTOPHER
NESSEL | TODD | ALLAN
NEUMAN | GREGORY | RAYMOND
NEUMANN | AVROHOM
NEWLAND | MARVIN | EARL
NEWMAN | MAYNARD | SIMONS
NG | XIDENG
NGUYEN | GEOFFREY | CHRISTOPHER
NICHOLAS | BETH | KATHLEEN
NICHOLS | CLARE | ELIZABETH
NICOLAISSEN | BJORN | OTTO
NICOLAUS | KAJA
NICOLAUS | MAIKA
NISHINO | EMIKO
NISHINO | KO
NISSEN | PEGGY | LOUISE
NIXON | NATASHA | INDIA
NOALL | JONAS | ERICH
NOLAN | EDMOND | PATRICK
NORRIS | GREGORY | BLAIR
NORTON | NATALIA | BEATRICE
NUSSBAUMER | RALPH | ERNST
NYE-COCCIARDI | DESIREE | LEE
NYMAN | GEORGE | ALFRED
OBERHOLTZER | WILLIAM | EARL
OCAMPO DESIONGCO | PATRICIA | YVETTE
OGUNYEMI | BOLUWAJI | AKHIGBE B.
OKE | CAROLYN | LOUISE
OKISHIO | TAKAO
OLIVER | MICHAEL | DAVID
ONG | HWEI | MIN LISA
OPELZ | HENRIK | JOHANN
OPHEL | JOHN | LEWIS
OPPERMAN | SHERRY | RUTH
OSUCH | ELIZABETH | ANN
OTT | STEFANIE | DOROTHEA
OTTERLING | JACOB | KARL EDVIN
PADUA | FABRIZIO
PAGRATIS | VANESSA | CAROLINA
PALIOTTA | DONATELLA | SYLVIA
PALMER | MARIE
PANTUSO | DAVID | ALLAN
PAQUETTE | SARA | RANKIN
PARK | ANDREW | KIM
PARK | YOUNG | HO
PARKAR | SUJATA | PRABHAKAR
PATEL | HIRAL
PAXON | GEORGE | ALEXANDER
PEBAY | CAROLE | A.
PECKAN | LI | ELIZABETH MOWAT
PEDRETTI | ROSSANA
PEIRCE | MICHAEL | NORTON
PELHAM | GEORGE | SACKVILLE
PELLERIN | MARC | JOHN
PELLERIN-LORING | JENNY | DIANE
PELLETIER | FRANCIS | JEFFRY
PELZER | KRISTEN | RUTH
PENNER | KIMBRE | JAYE
PENNER | MARGARET | EDA
PERCIBALLI | SERGIO | GINO
PERONI | MARIO
PERPERE | HUGO | ETIENNE
PERRET | DANIEL
PERRY | NANCY | GARRISON
PERRY | PETER | BARTHEL
PETERS | REMCO | THEODOOR
PHILLIPS | ASHA | SUZANNE
PIAMTHIPMANUS | ATTAKRIT
PIERRO | SOPHIA | MARIA
PILZ | JOAN | CHUNGCHIH
PINET | RICHARD | GEORGE
PITTET | CATHERINE | NICOLE
PIVA | DARIA
PLACKE | REBECCA
PLATTNER | ALEXANDRA
PLENTER-VOWLES | KATHERINA | CORNELIA
POND | CAROLE | ANNE
POWELL | BARBARA | MARIE
POWER | MARK | BERNARD
PREDONZANI | LUISA
PRICE | KENT | ADRIAN
PRINCE | ANTHONY | ALLEN
PUNNETT | CHRISTPHER | RAYMOND
PURIBHAT | SIRILUK
PYFROM | JEROME | ELLIOTT
PYKE | TIMOTHY | JAMES HAYWARD
QIAN | DIANA | MENGMIAO
RACH NORREY | ALISA | KIMBERLY
RADCLIFFE | MICHAEL | DOUGLAS
RADIX | MAXENCE | BRIAN
RAGSDALE | JAMES | WEBB
RANDAZZO | PETER | RANDY
RAYMOND | EDWARD | ANTHONY
RAYNE | MAIHAA | K.
REAVELY | AMANDA | LYNN
REBECCHINI | GAETANO
REBETZ GHARBI | SABRINA | MARIA
REBONATI | MICHEL | JEROME
REDDY | ARUN | KATANGURU
REDENBACH | JOHN
REED | SHAWN | RONALD
REICHERT | DANIEL
REICHL | SONIA | YANNA
REIF | JONATHAN | WERNER
REILLY | MONICA | FRANCOISE
REITSMA | ELSE | CHRISTINE LOUISE
RIBAS | JUAN | MOANA
RIBAS-CADLE | DIEGO | MATEO
RIBAS-CADLE | LUISA
RILEY | ELLIOT | DANIEL
RINGLE-HARRIS | MARCIA | JANE
RITTER | SANDRA | DIANA
ROBLES | MICHELLE | ADRIANNE
ROBSON IV | ARTHUR | W.
ROEMER | STEFAN
ROESLER | GRETCHEN | DORENE
ROGERS | PATRICIA | ANNE
ROGERS NANNARONE | MOLLY | ELLEN
ROOT | ANNE | CAROLINE
ROSS | PAUL | JENS PETER
ROSS | PAUL | STEPHEN
ROTHENBERGER | YTANN | ZACCARIA
ROTHFELS | ELISHA | DEONNE
ROUTLEDGE | JAN | LAWRENCE
ROUX | SERGE
RUCHKALL | BARBARA | LYNNE
RUDDOCK | JAMES | ANDREW
RUSHTON | NICHOLE | LYNNE
RUTLEDGE | JANA | MICHELLE
RYAN | LAURIE | MARIE
SABO | JASON | WAYNE
SADLER | SHERRI | JO
SAKAMOTO | HATSUYOSHI
SAKASHITA | MADELEINE | EVANS
SALABERRY | ANGELYN | DAWN
SALABERRY | PEGGY | THERESE
SALIBRA | LAWRENCE | ANTHONY TERZ0
SALSBURY JR | THOMAS | APPEL
SANDERS | EMILY | SARA
SANDOR | GARY | BRIAN
SANGHANI | JIGNESH | VINODKANT
SANGHVI | DEVIKA | DIPAL
SANHEDRAI | POPPY | SARIEL C
SANTAMATO | LORENZO | GIOVANNI
SANTI | ROBERT | LUCIEN
SARDAR | HASINA | BEGUM
SAYN-WITTGENSTEIN | CHRISTIAN | GEORG
SCARLETTS | MOREAH
SCHAERER | ALAN | CHRISTOPH
SCHAURTE-KUEPPERS | CAROLIN | B.H.A.
SCHILL | DANIELA | CARMEN
SCHMIDT | EVA | MARIE
SCHNEIDER | ANNE | VIRGINIA
SCHRAM | CARRIE | ANN
SCHRIBER | BARBARA | SUSANNA
SCHROEDER | MANFRED
SCHUMACHER | UTE.
SCHWAB | KELLY | ANNE
SCHWEIGER | EMILY | MARGARET
SCRIVEN | JOEL | NICHOLAS HAMILTON
SEACREST | PHILIP
SEITZ | MURRAY | WADE
SETTE | VIVIANA | P.
SEYBOLD | CLAIRE | IRIS
SHAHANI | SOMANSH
SHALGI | RAN
SHAPIRO | MARC | J.
SHAW | CHERYL | KAY
SHAW-LUIGI | RIMA | OLGA
SHEY | LINDSEY | ELIZABETH
SHI | HUMA
SHILLABEER | DONNA | JEAN
SHIPTON | CHRISTINE | ANN
SIDENIUS | PETER | KELVIN
SIEBEN-KRETZERS | PATRICIA | ELIZABETH
SILVIA | ELIZABETH | MARIE
SIMMONS | DANIEL | ROBERT
SIMMONS | HELEN | MARY
SIMONI | LUCA
SKETCHES | DENISE | RUTH
SKOWRONSKI | ANDREW | JOSHUA
SLOT | ERIK | GUSTAAF
SMITH | HEATHER | RENAE
SMITH | TIMOTHY | AARON
SOARES | JENNIFER | LYNN
SODERLING | SCOTT | DREW
SOFER | AMIT | JAMES
SOGOLO | SAMANTHA | ONORIEVARA
SOKOLOWSKI | COREY | CLARKE
SOLEM | MONICA | ANNE
SOLOMONS | THOMAS | A.
SOMMERVILLE | JULIE | MAREE
SONSTEGARD | VALERIE | LYNN
SOPCAK | JENNY | KATHERINE
SORENSEN | JAMES | COMUMBAN
SORENSEN | MAIREAD | ANNE
STAUDER | BERND
STEIGER | LAURA | CATHERINA
STEINKE | LINDA | MARIE
STEINMETZ VILELA | BERTHA
STEWART | ANNE | MARGARET
STILL | SAMUEL | HARRISON
STORTI | LETTERIO
STRAJA | ANDRE
STRAKER | PATRICIA | SUE
STRAW | ROSEMARY | ANNE
STRONG | DWAYNE | DONALD
STUBBS | MATTHEW | JAMES
STULBERG | LEV | ISAACOVICH
SUMAR | FRANCISCO | EDUARDO
SUNDICH | NICHOLAS | ALEXANDER
SUSIE | CHRISTOPHER | JOHN
SZIKMAN | GLORIA
TAKAHARA | ASAHI | THOMAS
TAKAHASHI | NAOTO | ANDREW
TAKAI | KENTARO
TAM | DENISE | HOK YUN
TAN | EDNA | L.
TAN | HWEE | SIAN
TAN | KATHERINE | LEE
TAN | YEE | LIANG
TANG | SAI | HO
TARRING | MARIE
TAY | SANDY | GUAT SEANG
TEFFT | MARIANNE | LOUISE
TELFORD | ROBERT | BRUCE
TEO | JEREMY
TESLUK | CEILIDH | MADELEINE
TETREAULT | LORRAINE | ALICE ROLLANDE MARIE
THALMANN | AMANDA | DANIELLE
THIO | CELINE | SARA
THOMAS | SHENANDOAH | WOUTER
THOMAS-FASOULIDIS | MARIA
THOMASSEN | NICHOLAS | ANTHONY
THOMPSON | GEOFFREY | BRYANS
THORNLEY | ASLI | PINAR
TOLLER | USCHI | KAI ANLAUF
TRACCI | HENRY | ROBERT
TREMBLAY | PHILLIP | ALAIN NATHO
TREMTHTHANMOR | CHRYS | EVNATH TRISTAN
TRIPLETT | ROY | LENNY
TRISIC | STEVAN | PETAR
TRUSCOTT | BARBARA | JEAN
TSAI | EMILY | S.
TUCKER | CATHERINE | JANE
ULLMAN | JOHN | EDWARD
URBAN | CHONG | SUK
VADHULAS | DIVYA | MURALIDHAR
VALLARINO | PEDRO | MANUEL
VAN DEN BOS | LIESBETH
VAN DER EERDEN | CINDY | MARGARETHA MARIA
VAN DER MEER | PHYLLIS
VAN DER VORST | GUILAINE | MARIA
VAN DOREN | SIMONETTE
VAN ETTEN | MATTHEW | JOHN
VAN NOORT | BERNARDUS | JOZEF RUDOLF
VAN OTTERLOO | MATTHEW | DAVID
VAN REMUNDT | ANNA | TARA
VANDEN BRINK | JENNIFER | MARIE
VANDENDOOREN | PIERRE | JACQUES
VANHERK | ALLISON | ELISABETH
VARLAAM | CAROLINE | FRENCH
VERNON | VERONICA | RITA
VIGNET | FREDERIC | LOUIS ACHILLE
VIKEN | KAY | LOUISE
VIPPERMAN | WALTER | BRYCE
VISENTIN | VERONICA | MARY LOUISE
VISSER | DANIEL | JOHN
VISSER | JANNY | LOUISE
VISSER | MICHAEL | JACK
VOGT | SIMON | THOMAS
VON QUAST | ALEXANDER | PHILIP
WACHMANN | MARC | CONSTANTIN
WACHTERS | EUGENIA | APOLLONIA
WAGENHOFFER | MELANIE | ANNE
WAGNER | KATHERINE
WAKIM | ABRAHIM
WALLER | LUKAS | GERHARD
WALSCHOT | MICHELLE | RENEE
WALTERS | JULIAN | ROGER FORD
WANG | YU-CHUNG
WARNER | SCOTT | ANDREW
WATT | CHARLES | HENRY WILLIAM
WATTS | KELI | RYAN
WATTS | SUSAN | LOUISE
WEAVER | MELANIE | JEAN
WEIDER | MICHAEL | JOSEF
WEINER | MICHAEL | JOEL
WEMPLE | CLARISSA | KIM
WERT | WILLIAM | FREDERICK
WESPI | PASCALE
WESTLER | SHARON
WEYHERS | JAN-HENDRIK
WEYRAUCH | SUSANNE | MELANIE
WHITE | MARGARET | JANE
WHYTE | EILEEN
WIDJAJA | TORA
WIGHT | DEREK | LONERGAN
WILCKE | JONATHON | CHAD
WILHELMSEN | HANNAH | ESHETE
WILLIAMS | JARON | JOSEPH
WILLIAMS | JERROLD | DAVID
WILLIAMS | LISA | ELLEN
WILLIAMS | RICHARD | GEORGE
WILSON | BROOKE
WILSON | CODY | LANE
WILSON | JAMES | HENRY ST. JOHN
WILSON | JOHN | PAUL
WILSON | KENNETH | RANDALL
WILSON | RACHEL | JANE PAINE
WISKOTT | KIM | AURORA-FRANCOISE
WOLF | KAREN | LYNN
WOLF | MICHAEL | THORNTON
WOLFSBERGER | BRIGITTE | MARIE-ANGE
WONG | LILLIAS | JOSEPHINE
WONG | NATALIE | ANNE
WOOD | JUSTIN | TRENT
WOOD | RONALD | BURWELL
WOOD-OSTERWALD | ALEXANDER | JAMES GETTY
WOODS | VALEIE | TERESA
WU | MI
WU | YUNQI
YABUSHITA | FUYUKO
YACOWAR | MARLA | SUSAN
YAMADA | RINO | JULIA
YAMMINE | JAMES | KABALAN
YAP | MAYBELLINE
YAROSHEVICH | YAN | ALEXANDER
YAU | EDWIN | WAI WING
YE | GEN
YEO | SHERYL | ZHAO LING
YIN | XIAO | DONG
YIP | DIANA
YOO | SU | RIM
YOON | WAE | SUK
YOONG | KIMBERLY | YU YING
YOUMANS | CRAIG | CORNELL
YOUNG | LUKE | DOUGLAS
YUE | ANSON | WEI YUE
ZACOUR | GEOFFREY | CHARLES
ZAHID | AMAL | ALI
ZAINAL | HAFSA | NASSER
ZEKVELD | LEVI | HARRISON
ZERBY | MICHAEL | VINCENT
ZHANG | XIAO | ZHU
ZHU | DEREK
ZILTENER | VALERIE
ZIMMERMAN | RENA | SHELLEY
ZINDEL | ANN
ZOLESIO | ROSA
ZOLTU | MICAH

Dated: May 1, 2019.
Diane Costello,
Manager Classification Team 82413, Examinations Operations—Philadelphia Compliance Services.

[FR Doc. 2019-09731 Filed 5-10-19; 8:45 am]

BILLING CODE 4830-01-P